GENERAL SERVICES ADMINISTRATION

[OMB Control No. 3090-0121]

General Services Administration Acquisition Regulation; Information Collection; Industrial Funding Fee and Sales Reporting

AGENCY: Office of the Acquisition Policy, GSA.

ACTION: Notice of request for reinstatement of an information collection requirement for an existing OMB clearance.

SUMMARY: Under the provisions of the Paperwork Reduction Act of 1995 (44 U.S.C. Chapter 35), the General Services Administration will be submitting to the Office of Management and Budget (OMB) a request to review and approve a reinstatement of a previously approved information collection requirement regarding industrial funding fee and sales reporting.

Public comments are particularly invited on: Whether this collection of information is necessary and whether it will have practical utility; whether our estimate of the public burden of this collection of information is accurate, and based on valid assumptions and methodology; ways to enhance the quality, utility, and clarity of the information to be collected.

DATES: Submit comments on or before: December 14, 2009.

FOR FURTHER INFORMATION CONTACT: Warren Blankenship, Procurement Analyst, Acquisition Policy Division, at telephone (202) 501-1900 or via e-mail to warren.blankenship@gsa.gov.

ADDRESSES: Submit comments regarding this burden estimate or any other aspect of this collection of information, including suggestions for reducing this burden to the Regulatory Secretariat, General Services Administration, 1800 F Street, NW., Room 4041, Washington, DC 20405. Please cite OMB Control No. 3090-0121, Industrial Funding Fee and Sales Reporting, in all correspondence.

SUPPLEMENTARY INFORMATION:

A. Purpose

The clause requires the contractor to report a quarterly dollar value of all sales under the contract by calendar quarter. A separate report is required for each National Stock Number (NSN) or sub-item. The report is made electronically in accordance with the program office requirements. It is also used primarily by contracting officers to estimate requirements for the subsequent year, evaluate the effectiveness of a FSS contract, negotiate better prices based on volume and for special reports. The information is used primarily by contracting officers to estimate requirements for the subsequent year, evaluate the effectiveness of a schedule, negotiate better prices based on volume and for special reports.

B. Annual Reporting Burden

Respondents: 17,000.

Responses per Respondent: 20.

Total Responses: 340,000.

Hours per Response: .0833.

Total Burden Hours: 28,322.

Obtaining Copies of Proposals: Requesters may obtain a copy of the information collection documents from the General Services Administration, Regulatory Secretariat, 1800 F Street, NW., Room 4041, Washington, DC 20405, telephone (202) 501-4755. Please cite OMB Control No. 3090-0121, Industrial Funding Fee and Sales Reporting, in all correspondence.

Dated: September 29, 2009.
Al Matera,
Director, Acquisition Policy Division.

[FR Doc. E9-24688 Filed 10-13-09; 8:45 am]

BILLING CODE 6820-34-P